DEPARTMENT OF THE TREASURY

Customs Service

19 CFR Part 101

[T.D 01-81]

Customs Preclearance in Foreign Countries

AGENCY: U.S. Customs Service, Department of the Treasury.

ACTION: Final rule.

SUMMARY: This document amends the Customs Regulations to reflect that Customs has added two new preclearance facilities and to provide that the Customs officer exercising supervisory control over all of the preclearance facilities will be located at Customs Headquarters.

EFFECTIVE DATE: November 8, 2001.

FOR FURTHER INFORMATION CONTACT: Glenn Ross, Office of Field Operations, 202-927-2301.

SUPPLEMENTARY INFORMATION:

Background

Customs preclearance operations have been in existence since 1952. There are presently 11 preclearance facilities operating in both Canada and the Caribbean. Each facility is responsible for preclearing U.S. bound passengers and their personal effects and baggage. In most cases, U.S. bound passengers who are precleared in either Canada or the Caribbean are permitted to arrive at a U.S. domestic facility and either directly connect to a U.S. domestic flight or leave the airport. Preclearance facilities primarily serve to facilitate low risk passengers and to relieve passenger congestion at federal inspection facilities in the United States. In fiscal year 2000, 12.5 million passengers were precleared. This figure represents 15% of all commercial air passengers cleared by Customs.

Section 101.5, Customs Regulations (19 CFR 101.5), sets forth a list of Customs preclearance offices in foreign countries and of the Customs officers under whose supervision the preclearance offices function.

The Customs Regulations reflect that there are 9 preclearance offices. This document amends § 101.5, Customs Regulations, to add to the list of preclearance offices one at Orangestad, Aruba and one at Ottawa, Canada. Section 101.5 is also amended to reflect that all preclearance operations are being consolidated under a single Director, Preclearance, located in the Office of Field Operations at Customs Headquarters.

Inapplicability of Public Notice and Delayed Effective Date Requirements

Because this amendment merely reflects the addition of two new Customs preclearance offices and the consolidation of the Customs preclearance operations under a Director, Preclearance, located in the Office of Field Operations at Customs Headquarters, pursuant to 5 U.S.C. 553(b)(B), notice and public procedure are unnecessary, and for the same reason, pursuant to 5 U.S.C. 553(d)(3), a delayed effective date is not required.

Regulatory Flexibility Act and Executive Order 12866

Because no notice of proposed rulemaking is required, the provisions of the Regulatory Flexibility Act (5 U.S.C. 601 et seq.) do not apply. This amendment does not meet the criteria for a “significant regulatory action” as specified in Executive Order 12866.

Drafting Information

The principal author of this document was Janet L. Johnson, Regulations Branch, Office of Regulations and Rulings, U.S. Customs Service. However, personnel from other offices participated in its development.

List of Subjects in 19 CFR Part 101

Customs duties and inspection, Customs ports of entry, Foreign trade statistics, Imports, Organization and functions (Government agencies), Shipments, Vessels.

Amendments to the Regulations

Part 101, Customs Regulations (19 CFR part 101), is amended as set forth below.

PART 101—GENERAL PROVISIONS

1. The general authority citation for part 101, Customs Regulations, continues to read, and a new specific authority citation for § 101.5 is added to read, as follows:

Authority: 5 U.S.C. 301; 19 U.S.C. 2, 66, 1202 (General Note 22, Harmonized Tariff Schedule of the United States), 1623, 1624, 1646a.

* * * * *

Section 101.5 also issued under 19 U.S.C. 1629.

* * * * *

2. Section 101.5 is revised to read as follows:

§ 101.5 Customs preclearance offices in foreign countries.

Listed below are the preclearance offices in foreign countries where U. S. Customs officers are located. A Director, Preclearance, located in the Office of Field Operations at Customs Headquarters, is the responsible Customs officer exercising supervisory control over all preclearance offices.

Country | Customs office
Aruba | Orangestad
The Bahamas | Freeport
| Nassau
Bermuda | Kindley Field
Canada | Calgary, Alberta
| Edmonton, Alberta
| Montreal, Quebec
| Ottawa, Ontario
| Toronto, Ontario
| Vancouver, British Columbia
| Winnipeg, Manitoba

Approved: November 2, 2001.
Charles W. Winwood,
Acting Commissioner of Customs.

Timothy E. Skud,
Acting Deputy Assistant Secretary of the Treasury.

[FR Doc. 01-28013 Filed 11-7-01; 8:45 am]

BILLING CODE 4820-02-P